DEPARTMENT OF THE INTERIOR

National Park Service

[NPS-WASO-NAGPRA-NPS0037132; PPWOCRADN0-PCU00RP14.R50000]

Notice of Inventory Completion: Alabama Department of Archives and History, Montgomery, AL

AGENCY: National Park Service, Interior.

ACTION: Notice.

SUMMARY: In accordance with the Native American Graves Protection and Repatriation Act (NAGPRA), the Alabama Department of Archives and History (ADAH) has completed an inventory of human remains and associated funerary objects and has determined that there is a cultural affiliation between the human remains and associated funerary objects and Indian Tribes or Native Hawaiian organizations in this notice. The human remains and associated funerary objects were removed from Elmore County, AL.

DATES: Repatriation of the human remains and associated funerary objects in this notice may occur on or after January 22, 2024.

ADDRESSES: Kellie Bowers, NAGPRA Coordinator, the Alabama Department of Archives and History, P.O. Box 300100, 624 Washington Avenue, Montgomery, AL 36130, telephone (334) 353-4731, email nagpra.adah@archives.alabama.gov.

SUPPLEMENTARY INFORMATION: This notice is published as part of the National Park Service's administrative responsibilities under NAGPRA. The determinations in this notice are the sole responsibility of the Alabama Department of Archives and History. The National Park Service is not responsible for the determinations in this notice. Additional information on the determinations in this notice, including the results of consultation, can be found in the inventory or related records held by the Alabama Department of Archives and History.

Description

Elmore County, AL

On February 19, 1929, human remains representing, at minimum, one individual were removed from the Tuckabatchee site by members of the Alabama Anthropological Society. Between 1916 and 1951, the human remains were donated to the ADAH (Human Remains Identification Number 4119). The 524 associated funerary objects are three shell beads, two brass trade bells, 485 glass beads, one awl, three wire bracelets, one fragment of worked stone (undetermined), five brass tubes, one kettle fragment, six buttons, four “tinklers,” one cone earring (brass and lead), and 12 shell pendants.

On April 18, 1913, human remains representing, at minimum, one individual were removed from the Jackson Lake site by members of the Alabama Anthropological Society. Between 1916 and 1951, the human remains were donated to the ADAH (Human Remains Identification Number 4134). No associated funerary objects are present.

On April 18, 1913, human remains representing, at minimum, one individual were removed from the Jackson Lake site by members of the Alabama Anthropological Society. Between 1916 and 1951, the human remains were donated to the ADAH (Human Remains Identification Number 4135). No associated funerary objects are present.

On April 18, 1913, human remains representing, at minimum, two individuals were removed from the Jackson Lake site by members of the Alabama Anthropological Society. Between 1916 and 1951, the human remains were donated to the ADAH (Human Remains Identification Number 4136). No associated funerary objects are present.

On April 18, 1913, human remains representing, at minimum, one individual were removed from the Jackson Lake site by members of the Alabama Anthropological Society. Between 1916 and 1951, the human remains were donated to the ADAH (Human Remains Identification Number 4137). No associated funerary objects are present.

On April 18, 1913, human remains representing, at minimum, one individual were removed from the Jackson Lake site by members of the Alabama Anthropological Society. Between 1916 and 1951, the human remains were donated to the ADAH (Human Remains Identification Number 4184). The 115 associated funerary objects are 112 ceramic sherds, one shell pendant, one bone pin, and one piece of daub.

On April 18, 1913, human remains representing, at minimum, one individual were removed from the Jackson Lake site by members of the Alabama Anthropological Society. Between 1916 and 1951, the human remains were donated to the ADAH (Human Remains Identification Number 4193). No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, kinship, and linguistics.

Determinations

Pursuant to NAGPRA and its implementing regulations, and after consultation with the appropriate Indian Tribes and Native Hawaiian organizations, the Alabama Department of Archives and History has determined that:

• The human remains described in this notice represent the physical remains of eight individuals of Native American ancestry.

• The 639 objects described in this notice are reasonably believed to have been placed with or near individual human remains at the time of death or later as part of the death rite or ceremony.

• There is a relationship of shared group identity that can be reasonably traced between the human remains and associated funerary objects described in this notice and the Absentee-Shawnee Tribe of Indians of Oklahoma; Alabama-Coushatta Tribe of Texas; Alabama-Quassarte Tribal Town; Coushatta Tribe of Louisiana; Eastern Shawnee Tribe of Oklahoma; Kialegee Tribal Town; Miccosukee Tribe of Indians; Poarch Band of Creek Indians; Seminole Tribe of Florida; Shawnee Tribe; The Muscogee (Creek) Nation; The Seminole Nation of Oklahoma; and the Thlopthlocco Tribal Town.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 22, 2024. If competing requests for repatriation are received, the Alabama Department of Archives and History must determine the most appropriate requestor prior to repatriation. Requests for joint repatriation of the human remains and associated funerary objects are considered a single request and not competing requests. The Alabama Department of Archives and History is responsible for sending a copy of this notice to the Indian Tribes and Native Hawaiian organizations identified in this notice.

Authority: Native American Graves Protection and Repatriation Act, 25 U.S.C. 3003, and the implementing regulations, 43 CFR 10.9, 10.10, and 10.14.

Dated: December 13, 2023.
Melanie O'Brien,
Manager, National NAGPRA Program.

[FR Doc. 2023-28185 Filed 12-21-23; 8:45 am]

BILLING CODE 4312-52-P